DEPARTMENT OF ENERGY

Federal Energy Regulatory Commission

[Docket No. AD21-13-000]

Climate Change, Extreme Weather, and Electric System Reliability; Supplemental Notice of Technical Conference

As announced in the Notice of Technical Conference issued in this proceeding on March 5, 2021, Federal Energy Regulatory Commission (Commission) staff will convene a technical conference to discuss issues surrounding the threat to electric system reliability posed by climate change and extreme weather events. The conference will be held on Tuesday, June 1, 2021 and Wednesday June 2, 2021, from approximately 1:00 p.m. to 6:00 p.m. Eastern Time each day. The conference will be held virtually via WebEx. Commissioners may attend and participate.

We note that discussions at the conference may involve issues raised in proceedings that are currently pending before the Commission. These proceedings include, but are not limited to:

California Independent System Operator Corp., Docket No. ER21-1536-000

California Independent System Operator Corp., Docket No. ER21-1551-000

California Independent System Operator Corp., Docket No. ER21-1790-000

CAlifornians for Renewable Energy v. California Independent System Operator Corp., Docket No. EL20-69-001

Central Hudson Gas & Elec. Corp., et al. v. New York Independent System Operator, Inc., Docket No. EL21-66-000

Complaint of Michael Mabee, Docket No. EL21-54-000

Duke Energy Carolinas, LLC, et al., Docket No. ER21-1579-000

George Berka v. Andrew Cuomo, et al., Docket No. EL21-61-000

New York Independent System Operator, Inc., Docket Nos. ER21-502-002, ER21-502-003

New York Independent System Operator, Inc., Docket Nos. ER21-1018-000, ER21-1018-001

New York Transmission Owners, Docket No. ER21-1647-000

NV Energy v. California Independent System Operator Corp., Docket No. EL21-74-000

PJM Interconnection, L.L.C., Docket No. ER21-278-001

PJM Interconnection, L.L.C., Docket Nos. EL19-100-000, ER20-584-000

PJM Interconnection, L.L.C., Docket No. ER21-1635-000

Attached to this Supplemental Notice is a revised agenda for the technical conference, which includes the final conference program and expected speakers. The conference will be open for the public to attend virtually. Information on the technical conference will also be posted on the Calendar of Events on the Commission's website, http://www.ferc.gov, prior to the event. The conference will be transcribed. Transcripts of the conference will be available for a fee from Ace-Federal Reporters, Inc. (202-347-3700).

For more information about this technical conference, please contact Rahim Amerkhail, 202-502-8266, rahim.amerkhail@ferc.gov for technical questions or Sarah McKinley, 202-502-8368, sarah.mckinley@ferc.gov for logistical issues.

Dated: May 27, 2021.
Kimberly D. Bose,
Secretary.

[FR Doc. 2021-11814 Filed 6-4-21; 8:45 am]

BILLING CODE 6717-01-P